NATIONAL COUNCIL ON DISABILITY

Sunshine Act Meetings

TIME AND DATES: The Members of the National Council on Disability (NCD) will hold a quarterly meeting on Monday, January 12, 2015, from 11 a.m. to 1 p.m., Eastern Time.

PLACE: This meeting will occur by phone. NCD staff will participate in the call from the NCD office at 1331 F Street NW., Suite 850, Washington, DC 20004. Interested parties may join the meeting in person at the NCD office or may join the phone line in a listening-only capacity (other than the period allotted for by-phone public comment) using the following call-in number: 888-430-8691; Conference ID: 1272932; Conference Title: NCD Meeting; Host Name: Jeff Rosen.

MATTERS TO BE CONSIDERED: The Council will discuss and vote on its forthcoming report on defining and measuring home- and community-based services; will receive an overview of the upcoming 114th Congress; and receive its annual ethics training.

AGENDA: The times provided below are approximations for when each agenda item is anticipated to be discussed (all times Eastern):

Monday, January 12, 2015

11 a.m.-11:30 a.m. Call to Order and Council Reports

11:30 a.m.-12 p.m. Review and Approve the Home- and Community-Based Services report

12 p.m.-12:30 p.m. Briefing on the 114th Congress

12:30 p.m.-1 p.m. Annual Ethics Training

1 p.m. Adjournment

PUBLIC COMMENT: Due to the brevity of the meeting, NCD will limit public comment to email submissions only. Any individual interested in providing public comment should send his or her submission to PublicComment@ncd.gov with the subject line “Public Comment” and include his or her name, organization, and state in the body of the email.

CONTACT PERSON FOR MORE INFORMATION: Anne Sommers, NCD, 1331 F Street NW., Suite 850, Washington, DC 20004; 202-272-2004 (V), 202-272-2074 (TTY).

ACCOMMODATIONS: A CART streamtext link has been arranged for this teleconference meeting. The web link to access CART is http://www.streamtext.net/text.aspx?event=011215ncd1100am. Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

Dated: December 11, 2014.
Rebecca Cokley,
Executive Director.

[FR Doc. 2014-29401 Filed 12-11-14; 11:15 am]

BILLING CODE 8421-03-P